DEPARTMENT OF HOMELAND SECURITY

U.S. Customs and Border Protection

Notice of Revocation of Customs Brokers' Licenses; Correction

AGENCY: U.S. Customs and Border Protection, Department of Homeland Security.

ACTION: Revocation of customs brokers' licenses; correction.

SUMMARY: This document corrects six errors in the list of customs brokers' licenses revoked by operation of law, without prejudice, for failure to file a triennial status report that U.S. Customs and Border Protection (CBP) published in the Federal Register on February 20, 2019. The six errors consist of erroneously identified revocations.

DATES: As of May 18, 2020, CBP's records have been corrected to reflect that the licenses were not revoked.

FOR FURTHER INFORMATION CONTACT: Melba Hubbard, Branch Chief, Broker Management, Office of Trade, (202) 325-6986, melba.hubbard@cbp.dhs.gov.

SUPPLEMENTARY INFORMATION:

Background

Pursuant to section 641 of the Tariff Act of 1930, as amended (19 U.S.C. 1641), and section 111.30(d) of title 19 of the Code of Federal Regulations (19 CFR 111.30(d)), a customs broker's license will be revoked by operation of law, without prejudice, for failure to file a triennial status report. On February 20, 2019, U.S. Customs and Border Protection (CBP) published in the Federal Register (84 FR 5090) a list of customs brokers' licenses revoked under 19 CFR 111.30(d) in alphabetical order by name, with the names grouped according to the ports of issuance. That document contained six (6) errors in the list of revoked customs brokers' licenses. Specifically, six (6) customs brokers' names were erroneously included in the list. This correction is being issued to identify the customs brokers whose licenses were erroneously identified as revoked. CBP has corrected its records to reflect that the licenses were not revoked.

Correction

In the Federal Register of February 20, 2019, in the document at 84 FR 5090:

Beginning on page 5091, in the list of revoked customs broker licenses, remove the entries for the following customs brokers:

Generke | Ruth | 30703 | Atlanta.
Knight (formerly: Shubert) | Linda | 17372 | Baltimore.
Twomey | Robert | 17023 | Baltimore.

On page 5092, remove the entry for the following customs broker:

Faison | Michelle | 30144 | Charlotte.

Also on page 5097, remove the entries for the following customs brokers:

Okerman (formerly: Poe) | Rachel | 29388 | Otay Mesa.
Rader (formerly: Burrows) | Holly | 28136 | Philadelphia.

Dated: May 7, 2020.
Brenda B. Smith,
Executive Assistant Commissioner, Office of Trade.

[FR Doc. 2020-10395 Filed 5-15-20; 8:45 am]

BILLING CODE 9111-14-P